FEDERAL COMMUNICATIONS COMMISSION

Notice of Public Information Collections Being Submitted for Review and Approval to the Office of Management and Budget (OMB), Comments Requested

April 8, 2010.

SUMMARY: The Federal Communications Commission, as part of its continuing effort to reduce paperwork burden invites the general public and other Federal agencies to take this opportunity to comment on the following information collections, as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before May 14, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via email to Nicholas_A._Fraser@omb.eop.gov and to the Federal Communications Commission via email to PRA@fcc.gov and Cathy.Williams@fcc.gov. To view a copy of this information collection request (ICR) submitted to OMB: (1) Go to the web page http://reginfo.gov/public/do/PRAMain, (2) look for the section of the web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collections, contact Cathy Williams on (202) 418-2918.

SUPPLEMENTARY INFORMATION: OMB Control Number: 3060-0837.

Title: Application for DTV Broadcast Station License.

Form Number: FCC Form 302-DTV.

Type of Review: Reinstatement without change of a previously approved collection.

Respondents: Business or other for-profit entities; Not-for-profit institutions.

Number of Respondents and Responses: 300 respondents and 300 responses.

Estimated Time per Response: 2 hours.

Frequency of Response: On occasion reporting requirement.

Obligation to Respond: Required to obtain or retain benefits. Statutory authority for this collection of information is contained in Sections 154(i), 303 and 308 of the Communications Act of 1934, as amended.

Total Annual Burden: 600 hours.

Total Annual Costs: $133,800.

Privacy Impact Assessment(s): No impacts.

Nature and Extent of Confidentiality: There is no need for confidentiality and respondents are not being asked to submit confidential information to the Commission.

Needs and Uses: The Commission is requesting reinstatement of OMB control number 3060-0837. In 2008, we merged the requirements that were previously under this OMB control number into an existing information collection OMB control number 3060-0029, Application for TV Broadcast Station License, FCC Form 302-TV. Although the requirements were merged under the supporting statement, the forms themselves remained separate and only shared the same OMB control number. Since that time, we find the merging of these requirements under one OMB control number as ineffective causing delays for submission to OMB for review especially when the various requirements were revised by multiple Commission actions.

Form 302-DTV is used by licensees and permittees of Digital TV (“DTV”) broadcast stations to obtain a new or modified station license and/or to notify the Commission of certain changes in the licensed facilities of those stations. It may be used: (1) To cover an authorized construction permit (or auxiliary antenna), provided that the facilities have been constructed in compliance with the provisions and conditions specified on the construction permit; or (2) To implement modifications to existing licenses as permitted by 47 CFR Sections 73.1675(c) or 73.1690(c).

OMB Control Number: 3060-0405.

Title: Application for Authority to Construct or Make Changes in an FM Translator or FM Booster Station.

Form Number: FCC Form 349.

Type of Review: Reinstatement without change of a previously approved collection.

Respondents: Business or other for-profit entities; Not-for-profit institutions; State, local or tribal government.

Number of Respondents and Responses: 1,200 respondents and 1,200 responses.

Estimated Time per Response: 1 to 1.5 hours.

Frequency of Response: On occasion reporting requirement; Third party disclosure requirement.

Obligation to Respond: Required to obtain or retain benefits. Statutory authority for this collection of information is contained in Sections 154(i), 303 and 308 of the Communications Act of 1934, as amended.

Total Annual Burden: 4,500 hours.

Total Annual Costs: $4,598,100.00.

Privacy Impact Assessment(s): No impacts.

Nature and Extent of Confidentiality: There is no need for confidentiality and respondents are not being asked to submit confidential information to the Commission.

Needs and Uses: The Commission is requesting reinstatement of OMB control number 3060-0405. In 2008, we merged the requirements that were previously under this OMB control number into an existing information collection, OMB control number 3060-0029, Application for TV Broadcast Station License, FCC Form 302-TV. Although the requirements were merged under the supporting statement, the forms themselves remained separate and only shared the same OMB control number. Since that time, we find that the merging of these requirements under one OMB control number is ineffective, causing delays in submissions to OMB for review, especially when the various requirements were revised by multiple and simultaneously adopted Commission actions.

FCC Form 349 is used to apply for authority to construct a new FM translator or FM booster broadcast station, or to make changes in the existing facilities of such stations.

Form 349's Newspaper Notice (third party disclosure) requirement; 47 CFR § 73.3580. Form 349 also contains a third party disclosure requirement, pursuant to Section 73.3580. This rule requires stations applying for a new broadcast station, or to make major changes to an existing station, to give local public notice of this filing in a newspaper of general circulation in the community in which the station is located. This local public notice must be completed within 30 days of the tendering of the application. This notice must be published at least twice a week for two consecutive weeks in a three-week period. In addition, a copy of this notice must be placed in the station's public inspection file along with the application, pursuant to Section 73.3527. This recordkeeping information collection requirement is contained in OMB Control No. 3060-0214, which covers Section 73.3527.

OMB Control Number: 3060-0029.

Title: Application for Construction Permit for Reserved Channel Noncommercial Educational Broadcast Station.

Form Number: FCC Form 340.

Type of Review: Revision of a currently approved collection.

Respondents: Business or other for-profit entities; Not-for-profit institutions; State, local or tribal government.

Number of Respondents and Responses: 2,710 respondents and 2,710 responses.

Estimated Time per Response: 2 to 5 hours.

Frequency of Response: On occasion reporting requirement; Third party disclosure requirement.

Obligation to Respond: Required to obtain or retain benefits. Statutory authority for this collection of information is contained in Sections 154(i), 303 and 308 of the Communications Act of 1934, as amended.

Total Annual Burden: 6,700 hours.

Total Annual Costs: $27,894,950.00.

Privacy Impact Assessment(s): No impacts.

Nature and Extent of Confidentiality: There is no need for confidentiality and respondents are not being asked to submit confidential information to the Commission.

Needs and Uses: On April 7, 2009, the Commission adopted a Notice of Proposed Rule Making in the Matter of Policies to Promote Rural Radio Service and to Streamline Allotment and Assignment Procedures, MB Docket No. 09-52, FCC 09-30, 24 FCC Rcd 5239 (2009). On January 28, 2010, the Commission adopted a First Report and Order in the Matter of Policies to Promote Rural Radio Service and to Streamline Allotment and Assignment Procedures, MB Docket No. 09-52, FCC 10-24. In the First Report and Order, the Commission adopted the Tribal Priority proposed in the Notice of Proposed Rule Making, with some modifications. Under the Tribal Priority, a Section 307(b) priority will apply to an applicant meeting all of the following criteria: (1) The applicant is either a federally recognized Tribe or tribal consortium, or an entity 51 percent or more owned or controlled by a Tribe or Tribes (with the Tribes or entities occupying tribal lands that are covered by at least 50 percent of the daytime principal community contour of the proposed facility); (2) at least 50 percent of the daytime principal community contour of the proposed facilities covers tribal lands, in addition to meeting all other Commission technical standards; (3) the specified community of license is located on tribal lands; and (4) the applicant proposes the first local tribal-owned noncommercial educational transmission service at the proposed community of license. The proposed Tribal Priority would apply, if applicable, before the fair distribution analysis currently used by noncommercial educational applicants. The Tribal Priority does not prevail over an applicant proposing first overall reception service to a significant population.

FCC Form 340 and its instructions are being revised to accommodate those applicants qualifying for the new Tribal Priority. Specifically, we are adding new Questions 1 and 2, which seek information as to the applicant's eligibility for the Tribal Priority and direct applicants claiming the priority to prepare and attach an exhibit, to Section III. The instructions for Section III have been revised to assist applicants with completing the new questions and preparing the exhibit.

Also, the Commission is removing FCC Form 302-DTV, Application for Digital Television Broadcast Station License, and FCC Form 349, Application for Authority to Construct or Make Changes in an FM Translator or FM Booster Station, from this information collection to allow the Commission to more effectively mange the information collections. FCC Form 302-DTV will have its previous OMB control number reinstated (3060-0837) and FCC Form 349 will have its previous OMB control number reinstated as well (3060-0405).

OMB Control Number: 3060-0027.

Title: Application for Construction Permit for Commercial Broadcast Station.

Form Number: FCC Form 301.

Type of Review: Revision of a currently approved collection.

Respondents: Business or other for-profit entities; Not-for-profit institutions; State, local or tribal government.

Number of Respondents and Responses: 4,453 respondents and 7,889 responses.

Estimated Time per Response: 3 to 6.25 hours.

Frequency of Response: On occasion reporting requirement; Third party disclosure requirement.

Obligation to Respond: Required to obtain or retain benefits. Statutory authority for this collection of information is contained in Sections 154(i), 303 and 308 of the Communications Act of 1934, as amended.

Total Annual Burden: 19,561 hours.

Total Annual Costs: $85,096,314.00.

Privacy Impact Assessment(s): No impacts.

Nature and Extent of Confidentiality: There is no need for confidentiality and respondents are not being asked to submit confidential information to the Commission.

Needs and Uses: On January 28, 2010, the Commission adopted a First Report and Order and Further Notice of Proposed Rulemaking (the “Order”) in MB Docket No. 09-52, FCC 10-24. The Order adopts changes to certain procedures associated with the award of broadcast radio construction permits by competitive bidding, including modifications to the manner in which it awards preferences to applicants under the provisions of Section 307(b) of the Communications Act of 1934, as amended (the “Act”). With regard to AM application processing, the Commission adopted a proposal to explicitly prohibit the downgrading of proposed AM facilities that receive a dispositive preference under Section 307(b) of the Act and thus are not awarded through competitive bidding. Specifically, an AM applicant that receives a dispositive preference under Section 307(b) will not be allowed to later modify that proposal to serve a smaller population or otherwise negate the factors that led to the award of the preference. The Commission imposed these restrictions for a period of four years of on-air operations. These procedural safeguards are necessary to protect the integrity of our Section 307(b) analyses.

Consistent with actions taken by the Commission in the Order, FCC Form 301 has been revised to add questions, specifically asking the applicants to certify that the construction permit application complies with the four year service requirements. The instructions for FCC Form 301 have been revised to assist applicants with completing the new questions.

OMB Control Number: 3060-0996.

Title: AM Auction Section 307(b) Submissions.

Form Number: N/A.

Type of Review: Revision of a currently approved collection.

Respondents: Business or other for-profit entities; Not-for-profit institutions; State, local or tribal government.

Number of Respondents and Responses: 160 respondents and 160 responses.

Estimated Time per Response: 0.5 to 3 hours.

Frequency of Response: On occasion reporting requirement.

Obligation to Respond: Required to obtain or retain benefits. Statutory authority for this collection of information is contained in Sections 154(i), 307(b) and 309 of the Communications Act of 1934, as amended.

Total Annual Burden: 375 hours.

Total Annual Costs: $71,200.00.

Privacy Impact Assessment(s): No impacts.

Nature and Extent of Confidentiality: There is no need for confidentiality and respondents are not being asked to submit confidential information to the Commission.

Needs and Uses: On January 28, 2010, the Commission adopted a First Report and Order and Further Notice of Proposed Rulemaking (the “Order”) in MB Docket No. 09-52, FCC 10-24. The Order adopts changes to certain procedures associated with the award of broadcast radio construction permits by competitive bidding, including modifications to the manner in which it awards preferences to applicants under the provisions of Section 307(b). In the Order, the Commission added a new Section 307(b) priority that would apply only to Native American and Alaska Native Tribes, tribal consortia, and majority tribal-owned entities proposing to serve tribal lands. The priority is only available when all of the following conditions are met: (1) the applicant is either a federally recognized Tribe or tribal consortium, or an entity that is 51 percent or more owned or controlled by a Tribe or Tribes; (2) at least 50 percent of the daytime principal community contour of the proposed facilities will cover tribal lands, in addition to meeting all other Commission technical standards; (3) the specified community of license is located on tribal lands; and (4) in the commercial AM service, the applicant must propose first or second aural reception service or first local commercial tribal-owned transmission service to the proposed community of license, which must be located on tribal lands. Applicants claiming Section 307(b) preferences using these factors will submit information to substantiate their claims. The Commission will dismiss, without further processing, the previously filed AM auction filing window application and technical proposal of any applicant that fails to file an amendment addressing the Section 307(b) criteria, where required. Mutually exclusive AM applicants may not use this as an opportunity to change the technical proposal specified in the AM auction filing window application. The Section 307(b) amendment must be based on the technical proposal as specified in the AM auction filing window application.

OMB Control Number: 3060-0031.

Title: Application for Consent to Assignment of Broadcast Station Construction Permit or License, FCC Form 314; Application for Consent to Transfer Control of Entity Holding Broadcast Station Construction Permit or License, FCC Form 315; Section 73.3580, Local Public Notice of Filing of Broadcast Applications.

Form Number: FCC Forms 314 and 315.

Type of Review: Revision of a currently approved collection.

Respondents: Business or other for-profit entities; Not-for-profit institutions; State, local or tribal government.

Number of Respondents and Responses: 4,820 respondents and 12,520 responses.

Estimated Time per Response: 2 to 6 hours.

Frequency of Response: On occasion reporting requirement; Third party disclosure requirement.

Obligation to Respond: Required to obtain or retain benefits. Statutory authority for this collection of information is contained in Sections 154(i), 303(b) and 308 of the Communications Act of 1934, as amended.

Total Annual Burden: 18,443 hours

Total Annual Costs: $36,168,450.00

Privacy Impact Assessment(s): No impacts.

Nature and Extent of Confidentiality: There is no need for confidentiality and respondents are not being asked to submit confidential information to the Commission.

Needs and Uses: On January 28, 2010, the Commission adopted a First Report and Order and Further Notice of Proposed Rulemaking (the “Order”) in MB Docket No. 09-52; FCC 10-24. The Order adopts rule changes designed to streamline and clarify certain procedures associated with the award of broadcast radio construction permits by competitive bidding. In the Order, the Commission also adopted a priority under Section 307(b) of the Communications Act of 1934, as amended, to assist federally recognized Native American Tribes and Alaska Native Villages (“Tribes”), enrolled members of Tribes, and entities primarily owned or controlled by Tribes or enrolled members of Tribes, in obtaining broadcast radio construction permits designed primarily to serve tribal lands (the “Tribal Priority”). Applicants affiliated with Tribes who meet certain conditions regarding tribal membership and signal coverage qualify for the Tribal Priority, which in most cases will enable the qualifying applicants to obtain construction permits without proceeding to competitive bidding, in the case of commercial stations, or to point system evaluation, in the case of noncommercial educational (“NCE”) stations. Once a permit is obtained, it cannot be assigned or transferred to another person or entity for a period beginning with issuance of the construction permit until the station has completed four years of on-air operations, unless the assignee or transferee also qualifies for the Tribal Priority.

Consistent with actions taken by the Commission in the Order, the following changes are made to Forms 314 and 315: Section I of each form includes a new question asking applicants to indicate whether any of the authorizations involved in the transaction were obtained (or, in the case of non-reserved band commercial FM stations) the allotment for the station was obtained through the Tribal Priority. The instructions for Section I of Forms 314 and 315 have been revised to assist applicants with completing the new questions.

OMB Control Number: 3060-0009.

Title: Application for Consent to Assignment of Broadcast Station Construction Permit or License or Transfer of Control of Corporation Holding Broadcast Station Construction Permit or License.

Form Number: FCC Form 316.

Type of Review: Revision of a currently approved collection.

Respondents: Business or other for-profit entities; Not-for-profit institutions; State, local or tribal government.

Number of Respondents and Responses: 750 respondents and 750 responses.

Estimated Time per Response: 1.5 to 4.5 hours.

Frequency of Response: On occasion reporting requirement.

Obligation to Respond: Required to obtain or retain benefits. Statutory authority for this collection of information is contained in Sections 154(i) and 310(d) of the Communications Act of 1934, as amended.

Total Annual Burden: 1,231 hours

Total Annual Costs: $711,150.00

Privacy Impact Assessment(s): No impacts.

Nature and Extent of Confidentiality: There is no need for confidentiality and respondents are not being asked to submit confidential information to the Commission.

Needs and Uses: On January 28, 2010, the Commission adopted a First Report and Order and Further Notice of Proposed Rulemaking (the “Order”) in MB Docket No. 09-52, FCC 10-24. The Order adopts rule changes designed to streamline and clarify certain procedures associated with the award of broadcast radio construction permits by competitive bidding. To prevent unjust enrichment by parties that acquire broadcast construction permits through the use of a bidding credit in an auction, Section 73.5007(c) of the Rules requires reimbursement to the Commission of all or part of the bidding credit upon a subsequent assignment or transfer of control, if the proposed assignee or transferee is not eligible for the same percentage of bidding credit. The rule is routinely applied to “long form” assignment or transfer applications filed on FCC Forms 314 and 315. In the Order, the Commission also sought to clarify that the unjust enrichment payments to the government must be made even when an assignment or transfer is pro forma in nature and therefore filed on FCC Form 316. This ensures that applicants do not use the summary pro forma assignment and transfer procedures to circumvent the unjust enrichment requirements.

Consistent with actions taken by the Commission in the Order, FCC Form 316 has been revised to add the broadcast auction-based questions presently included on FCC Forms 314 and 315, specifically asking the applicants to certify that the proposed assignment or transfer complies with the unjust enrichment provisions of the Commission's competitive bidding rules. The instructions for FCC Form 316 have been revised to assist applicants with completing the new questions.

Federal Communications Commission.
Marlene H. Dortch,
Secretary,
Office of the Secretary,
Office of Managing Director.

[FR Doc. 2010-8492 Filed 4-13-10; 8:45 am]

BILLING CODE 6712-01-S